DEPARTMENT OF COMMERCE

International Trade Administration

[C-507-501]

Certain In-shell Pistachios From the Islamic Republic of Iran: Preliminary Results of Countervailing Duty Administrative Review

AGENCY: Import Administration, International Trade Administration, Department of Commerce.

SUMMARY: The Department of Commerce (the Department) is conducting an administrative review of the countervailing duty (CVD) order on certain in-shell (raw) pistachios from the Islamic Republic of Iran (Iran) for the period January 1, 2003, through December 31, 2003. For information on the net subsidy rate for the reviewed company, please see the “Preliminary Results of Review” section of this notice. Interested parties are invited to comment on these preliminary results. (See the “Public Comment” section of this notice).

DATES: Effective Date: April 7, 2005.

FOR FURTHER INFORMATION CONTACT: Darla Brown, AD/CVD Operations, Office 3, Import Administration, U.S. Department of Commerce, Room 4014, 14th Street and Constitution Avenue, NW., Washington, DC 20230; telephone (202) 482-2786.

SUPPLEMENTARY INFORMATION:

Background

On March 11, 1986, the Department published in the Federal Register the countervailing duty order on certain in-shell (raw) pistachios from Iran. See Final Affirmative Countervailing Duty Determination and Countervailing Duty Order: In-shell Pistachios from Iran, 51 FR 8344 (March 11, 1986) (In-shell Pistachios). On March 1, 2004, the Department published a notice of opportunity to request an administrative review of this CVD order. See Antidumping or Countervailing Duty Order, Finding, or Suspended Investigation; Opportunity To Request Administrative Review, 69 FR 9584 (March 1, 2004). On March 19, 2004, we received a timely request for an administrative review from Tehran Negah Nima Trading Company, Inc., trading as Nima Trading Company (Nima), the respondent company in this proceeding. On April 28, 2004, we initiated an administrative review of the CVD order on in-shell (raw) pistachios from Iran covering the period of review (POR) January 1, 2003, through December 31, 2003. See Initiation of Antidumping and Countervailing Duty Administrative Reviews, 69 FR 23170 (April 28, 2004).

On May 11, 2004, we issued our initial questionnaire to the Government of Iran (GOI) and Nima. On June 14, 2004, petitioners ¹ filed an entry of appearance, request for verification, and request for a duty absorption determination. On June 24, 2004, in a letter to petitioners, we declined to conduct a duty absorption determination in this CVD administrative review.

¹ Petitioners are comprised of members of the California Pistachio Commission (CPC).

On July 6, 2004, and July 8, 2004, the GOI and Nima, respectively, submitted questionnaire responses.

On July 23, 2004, petitioners submitted a request for extension to file new subsidy allegations. On July 28, 2004, we granted petitioners a two-week extension to file new subsidy allegations in this administrative review. On August 11, 2004, petitioners submitted new subsidy allegations.

On August 18, 2004, we issued supplemental questionnaires to the GOI and Nima. On September 1, 2004, and September 15, 2004, the GOI and Nima, respectively, submitted supplemental questionnaire responses.

On October 18, 2004, we extended the period for the completion of the Preliminary Results pursuant to section 751(a)(3)(A) of the Tariff Act of 1930, as amended (the Act). See Certain In-shell Pistachios from the Islamic Republic of Iran: Extension of Time Limit for Preliminary\ Results of Countervailing Duty Administrative Review, 69 FR 61341 (October 18, 2004).

On October 27, 2004, we initiated investigations of three of petitioners' new subsidy allegations. For additional information, see the October 27, 2004, New Subsidy Allegations memorandum to Melissa G. Skinner, Director, AD/CVD Operations, Office 3, from the Team (New Subsidies Memo), on file in the Central Records Unit, Room B-099 of the Main Commerce Building (CRU).

On November 4, 2004, we issued a second supplemental questionnaire to Nima, and on November 15, 2004, we issued a second supplemental questionnaire to the GOI. On November 29, 2004, we received a response from Nima to our second supplemental questionnaire. On December 13, 2004, we received a response from the GOI to our second supplemental questionnaire. On January 31, 2005, we issued a third supplemental questionnaire to the GOI. On February 28, 2005, we received a response from the GOI to our third supplemental questionnaire.

In accordance with 19 CFR 351.213(b), this administrative review covers only those producers or exporters for which a review was specifically requested. Accordingly, this administrative review covers Nima and ten programs.

Scope of Order

The product covered by this order is in-shell (raw) pistachio nuts from which the hulls have been removed, leaving the inner hard shells and edible meat, as currently classifiable in the Harmonized Tariff Schedules of the United States (HTSUS) under item number 0802.50.20.00. The HTSUS subheadings are provided for convenience and customs purposes. The written description of the scope of this proceeding is dispositive.

Analysis of Programs

I. Programs Preliminarily Determined To Be Not Used

Based on the information supplied by Nima on behalf of itself and its grower, Razi Domghan Agricultural and Animal Husbandry Company (Razi), we preliminarily determine that the programs listed below were not used during the POR. For further discussion of the Iranian Export Guarantee Fund, GOI Grants and Loans to Pistachio Farmers, and Crop Insurance for Pistachios programs, see the October 27, 2004, New Subsidies Memo.

A. Provision of Fertilizer and Machinery.

B. Provision of Credit.

C. Tax Exemptions.

D. Provision of Water and Irrigation Equipment.

E. Technical Support.

F. Duty Refunds on Imported Raw or Intermediate Materials Used in the Production of Export Goods.

G. Program to Improve Quality of Exports of Dried Fruit.

H. Iranian Export Guarantee Fund.

I. GOI Grants and Loans to Pistachio Farmers.

J. Crop Insurance for Pistachios.

Preliminary Results of Review

In accordance with 19 CFR 351.221(b)(4)(i), we have calculated an individual subsidy rate for Nima, the only producer/exporter subject to this administrative review, for the POR, i.e., calendar year 2003. We preliminarily determine that the total estimated net countervailable subsidy rate is 0.00 percent ad valorem.

As Nima is the exporter but not the producer of subject merchandise, the Department's final results of review will apply to subject merchandise exported by Nima and produced by Nima's supplier of pistachios, Razi. See 19 CFR 351.107(b). Therefore, we intend to issue the following cash deposit requirements, effective upon publication of the notice of final results of review for all shipments of subject merchandise entered, or withdrawn from warehouse, for consumption on or after the date of publication: (1) For merchandise exported by Nima and produced by Razi, the cash deposit rate will be the ad valorem rate calculated in the final results of the instant administrative review; (2) for merchandise exported by Nima and produced by Maghsoudi Farms, the cash deposit rate will be 23.18 percent, the rate calculated for Nima and Maghsoudi Farms in the new shipper reviews (see Certain In-Shell Pistachios (C-507-501) and Certain Roasted In-Shell Pistachios (C-507-601) from the Islamic Republic of Iran: Final Results of New Shipper Countervailing Duty Reviews, 68 FR 4997 (January 31, 2003) (New Shipper Reviews); (3) for merchandise exported by Nima but not produced by Razi or Maghsoudi Farms, the cash deposit rate will be the “all others” rate established in the original CVD investigation (see 51 FR 8344 (March 11, 1986)); (4) if the exporter is not a firm covered in this review, a prior review, or the original CVD investigation, but the producer is, the cash deposit rate will be the rate established for the most recent period for the producer of the merchandise; and (5) if neither the exporter nor producer is a firm covered in this review or the original investigation, the cash deposit rate for all other producers or exporters of the subject merchandise will continue to be 99.52 percent ad valorem. This rate is the “all others” rate from the final determination in the original investigation.

If the final results of this review remain the same as these preliminary results, the Department intends to instruct U.S. Customs and Border Protection (CBP), within 15 days of publication of the final results of this review, to liquidate without regard to countervailing duties all shipments of subject merchandise exported by Nima and produced by Razi, entered, or withdrawn from warehouse, for consumption during the POR. Should the final results of this review remain the same as these preliminary results, the Department also will instruct CBP not to collect cash deposits of estimated countervailing duties on all shipments of the subject merchandise exported by Nima and produced by Razi, entered, or withdrawn from warehouse, for consumption on or after the date of publication of the final results of this review.

Because the Uruguay Round Agreements Act (URAA) replaced the general rule in favor of a country-wide rate with a general rule in favor of individual rates for investigated and reviewed companies, the procedures for establishing countervailing duty rates, including those for non-reviewed companies, are now essentially the same as those in antidumping cases, except as provided for in section 777A(e)(2)(B) of the Act. The requested review will normally cover only those companies specifically named. See 19 CFR 351.213(b). Pursuant to 19 CFR 351.212(c), for all companies for which a review was not requested, duties must be assessed and cash deposits must continue to be collected, at the cash deposit rate previously ordered. As such, the countervailing duty cash deposit rate applicable to a company can no longer change, except pursuant to a request for a review of that company. See Federal-Mogul Corporation and The Torrington Company v. United States, 822 F. Supp. 782 (CIT 1993), and Floral Trade Council v. United States, 822 F. Supp. 766 (CIT 1993) (interpreting 19 CFR 353.22(e), the old antidumping regulation on automatic assessment, which is identical to the current regulation, 19 CFR 351.212(c)(1)(ii)). Therefore, the cash deposit rates for all companies except those covered by this review will be unchanged by the results of this review.

We will instruct CBP to continue to collect cash deposits for non-reviewed companies at the most recent company-specific or country-wide rate applicable to the company. Accordingly, the cash deposit rates that will be applied to non-reviewed companies covered by this order will be the rate for that company established in the most recently completed administrative proceeding. See Certain In-Shell Pistachios from the Islamic Republic of Iran: Final Results of Countervailing Duty Administrative Review, 68 FR 41310 (July 11, 2003). These cash deposit rates shall apply to all non-reviewed companies until a review of a company assigned these rates is requested.

Verification

In accordance with section 782(i)(3) of the Act, we intend to verify the information submitted by respondents prior to making our final determination.

Public Comment

Pursuant to 19 CFR 351.224(b), the Department will disclose to parties to the proceeding any calculations performed in connection with these preliminary results within five days after the date of the public announcement of this notice. Pursuant to 19 CFR 351.309, interested parties may submit written comments in response to these preliminary results. Unless otherwise indicated by the Department, case briefs must be submitted within 30 days after the publication of these preliminary results. Rebuttal briefs, which are limited to arguments raised in case briefs, must be submitted no later than five days after the time limit for filing case briefs, unless otherwise specified by the Department. Parties who submit argument in this proceeding are requested to submit with the argument: (1) A statement of the issue, and (2) a brief summary of the argument. Parties submitting case and/or rebuttal briefs are requested to provide the Department copies of the public version on disk. Case and rebuttal briefs must be served on interested parties in accordance with 19 CFR 351.303(f). Also, pursuant to 19 CFR 351.310, within 30 days of the date of publication of this notice, interested parties may request a public hearing on arguments to be raised in the case and rebuttal briefs. Unless the Secretary specifies otherwise, the hearing, if requested, will be held two days after the date for submission of rebuttal briefs.

Representatives of parties to the proceeding may request disclosure of proprietary information under administrative protective order no later than 10 days after the representative's client or employer becomes a party to the proceeding, but in no event later than the date the case briefs, under 19 CFR 351.309(c)(ii), are due. The Department will publish the final results of this administrative review, including the results of its analysis of issues raised in any case or rebuttal brief or at a hearing.

This administrative review and notice are issued and published in accordance with sections 751(a)(1) and 777(i)(1) of the Act.

Dated: March 31, 2005.
Joseph A. Spetrini,
Acting Assistant Secretary for Import Administration.

[FR Doc. E5-1614 Filed 4-6-05; 8:45 am]

BILLING CODE 3510-DS-P